DEPARTMENT OF TRANSPORTATION

Federal Aviation Administration

Public Notice for Waiver of Aeronautical Land-Use Assurance; Lake in the Hills Airport, Lake in the Hills, IL

AGENCY: Federal Aviation Administration, DOT.

ACTION: Notice of intent of waiver with respect to land.

SUMMARY: The Federal Aviation Administration (FAA) is considering a proposal to change a portion of airport land from aeronautical use to non-aeronautical use and to authorize the sale of the airport property. The proposal consists of portions of Parcels 4, 5 and 6, totaling 10.688 acres, and an easement on a 0.88-acre portion of Parcel 5. Presently the land is vacant and used as open land for control of FAR Part 77 surfaces and compatible land use and is not needed for aeronautical use, as shown on the Airport Layout Plan. The Parcels were acquired with Federal participation. It is the intent of the Village of Lake in the Hills, as owner and operator of the Lake in the Hills Airport (3CK) to sell portions of Parcels 4, 5 & 6 (10.688 Acres) in fee to the City of Crystal Lake, McHenry County Division of Transportation (McHDOT), and McHenry County Conservation District (MCCD), based on local jurisdiction, for the relocation of Pyott Road. 3CK would also grant a permanent easement for utilities to the City of Crystal Lake (0.88 acres). 3CK would, in return, receive the 15.838 acres of land, in fee, from the City of Crystal Lake, McHDOT and MCCD. This notice announces that the FAA is considering the proposal to authorize the disposal of the subject airport property at the Lake in the Hills Airport, Lake in the Hills, IL. Approval does not constitute a commitment by the FAA to financially assist in disposal of the subject airport property nor a determination that all measures covered by the program are eligible for grant-in-aid funding from the FAA. The disposition of proceeds from the disposal of the airport property will be in accordance with FAA's Policy and Procedures Concerning the Use of Airport Revenue, published in the Federal Register on February 16, 1999.

In accordance with section 47107(h) of Title 49, United States Code, this notice is required to be published in the Federal Register 30 days before modifying the land-use assurance that requires the property to be used for an aeronautical purpose.

DATES: Comments must be received on or before September 26, 2011.

FOR FURTHER INFORMATION CONTACT: Richard Pur, Program Manager, 2300 East Devon Avenue, Des Plaines, IL 60018. Telephone Number 847-294-7527/FAX Number 847-294-7046. Documents reflecting this FAA action may be reviewed at this same location by appointment or at the Lake in the Hills Airport, 8407 Pyott Road, Lake in the Hills, IL 60156.

SUPPLEMENTARY INFORMATION: Following is a legal description of the property located in McHenry County, Illinois, and described as follows:

Portion of Parcel 5 (to Crystal Lake)

That part of the Northwest Quarter of Section 16, Township 43 North, Range 8 East of the Third Principal Meridian, McHenry County, Illinois, more particularly described as follows:

Commencing at the Northwest Corner of said Section 16, thence South 0°−37′−12″ East (bearings assumed for description purposes only) along the west line of said Northwest Quarter 584.34 feet to a point on the north line of the parcel described in Trustee's Deed dated July 26, 2007, and recorded August 7, 2007, as Document No. 2007R0053990; thence North 89°−22′−48″ East along said north line 155.07 feet to be the Point of Beginning of the Parcel to be described;

From the Point of Beginning, thence continuing North 89°−22′−48″ East along said north line 21.88 feet; thence South 23°−18′−28″ East 90.77 feet; thence along a curve to the left an arc distance of 242.62 feet, said curve having a radius of 875.00 feet and a chord bearing South 24°−42′−06″ East 241.85 feet; thence South 32°−38′−43″ East 560.59 feet; thence along a curve to the right an arc distance of 763.82 feet, said curve having a radius of 1,065.00 feet and a chord bearing of South 12°−05′−56″ East 747.55 feet; thence South 8°−26′−51″ West 293.12 feet; thence along a curve to the left an arc distance of 35.84 feet, said curve having a radius of 180.00 feet and a chord bearing of South 2°−44′−37″ West 35.78 feet; thence North 70°−50′−49″ West 21.41 feet; thence along a curve to the right an arc distance of 31.76 feet, said curve having a radius of 200.00 feet and a chord bearing North 3°−53′−55″ East 31.72 feet; thence North 8°−26′−51″ East 293.12 feet; thence along a curve to the left an arc distance of 749.48 feet, said curve having a radius of 1045.00 feet and a chord bearing North 12°−05′−56″ West 733.52 feet; thence North 32°−38′−43″ West 560.59 feet; thence along a curve to the right an arc distance of 255.50 feet, said curve having a radius of 895.00 feet and a chord bearing North 24°−28′−01″ West 254.63 feet; thence North 23°−18′−28″ East 89.14 feet to the Point of Beginning.

Said Sub-Parcel contains 0.911 acres, more or less.

Portion of Parcel 5 (Easement to Crystal Lake)

That Part of the Northwest Quarter of Section 16, Township 43 North, Range 8 East of the Third Principal Meridian, McHenry County, Illinois, more particularly described as follows:

Commencing at the West Quarter Corner of said Section 16, thence North 89°−54′−22″ East (bearings assumed for description purposes only) along the south line of said Northwest Quarter 306.71 feet to the Point of Beginning of the Utility Easement to be described;

From the Point of Beginning, thence continuing North 89°−54′−22″ East along said south line 21.18 feet; thence North 19°−09′−01″ East 450.10 feet; thence along a curve to the left an arc distance of 813.60 feet, said curve having a radius of 900.00 feet and a chord bearing North 6°−44′−51″ West 786.18 feet; thence North 32°−38′−43″ West 560.59 feet; thence along a curve to the right an arc distance of 115.82 feet to a point on the east right of way line of the existing Pyott Road as described in Trustee's Deed dated July 27, 1993, and recorded August 16, 1993, as Document No. 93R048243, said curve having a radius of 1040.00 feet and a chord bearing North 29°−27′−18″ West 115.76 feet; thence South 0°−30′−01″ West along said east right of way line 42.88 feet; thence along a curve to the left an arc distance of 79.75 feet, said curve having a radius of 1,060.00 feet and a chord bearing South 30°−29′−23″ East 79.73 feet; thence South 32°−38′−43″ East 560.59 feet; thence along a curve to the right an arc distance of 795.52 feet, said curve having a radius of 880.00 feet and a chord bearing of South 6°−44′−51″ East 768.71 feet; thence South 19°−09′−01″ West 457.08 feet to the Point of Beginning.

Said Utility Easement contains 0.880 acres, more or less.

Portion of Parcels 5 & 6 (to MCCD)

That part of the Northwest Quarter of Section 16, Township 43 North, Range 8 East of the Third Principal Meridian, McHenry County, Illinois, more particularly described as follows:

Commencing at the Northwest Corner of said Section 16, thence South 0°−37′−12″ East (bearings assumed for description purposes only) along the west line of said Northwest Quarter 371.48 feet; thence North 89°−22′−48″ East 50.60 feet to a point on the east right of way line of Pyott Road as described in Trustee's Deed dated July 27, 1993, and recorded August 16, 1993, as Document No. 93R048243, said point being on a line parallel with and 25.00 feet, measured perpendicular, west of the east line of the parcel described in Trustee's Deed dated May 12, 2008, and recorded May 16, 2008, as Document No. 2008R0028725, said point to be the Point of Beginning of the Parcel to be described;

From the Point of Beginning, thence South 0°−37′−12″ East along said parallel line and east right of way line 57.03 feet; thence southerly along a curve to the left an arc distance of 63.92 feet, said curve being concentric with and 25.00 feet, measured radial, west of the east line of the parcel described in Trustee's Deed dated May 12, 2008, and recorded May 16, 2008, as Document No. 2008R0028725, said curve having a radius of 333.67 feet and a chord bearing South 6°−06′−29″ East 63.82 feet; thence continuing along said parallel line South 11°−35′−45″ East 94.02 feet to a point on the north line of the parcel described in Trustee's Deed dated July 26, 2007, and recorded August 7, 2007, as Document No. 2007R0053990; thence North 89°−22′−48″ East along said north line 0.11 feet; thence southeasterly along a curve to the left an arc distance of 353.17 feet, said curve having a radius of 920.00 feet and a chord bearing South 21°−38′−53″ East 351.00 feet; thence South 32°−38′−43″ East 560.59 feet; thence southerly along a curve to the right an arc distance of 731.55 feet, said curve having a radius of 1,020.00 feet and a chord bearing of South 12°−05′−56″ East 715.97 feet; thence South 8°−26′−51″ West 293.12 feet; thence easterly along a curve to the left an arc distance of 388.05 feet, said curve having a radius of 225.00 feet and a chord bearing South 40°−57′−37″ East 341.71 feet; thence North 89°−38′−04″ East 281.07 feet; thence North 75°−43′−28″ East 86.21 feet to a point on the west right of way line of the former Chicago & Northwestern Railroad Company; thence North 19°−14′−01″ West along said west line 25.09 feet; thence South 75°−43′−28″ West 80.99 feet; thence South 89°−38′−04″ West 278.02 feet; thence westerly along a curve to the right an arc distance of 344.93 feet, said curve having a radius of 200.00 feet and a chord bearing North 40°−57′−37″ West 303.74 feet; thence North 8°−26′−51″ East 293.12 feet; thence northerly along a curve to the left an arc distance of 749.48 feet, said curve having a radius of 1045.00 feet and a chord bearing North 12°−05′−56″ West 733.52 feet; thence North 32°−38′−43″ West 560.59 feet; thence northerly along a curve to the right an arc distance of 255.50 Feet, said curve having a radius of 895.00 feet and a chord bearing North 24°−28′−01″ West 254.63 feet; thence North 23°−18′−28″ East 89.14 feet, to a point on said north line; thence South 89°−22′−48″ West along said north line 55.00 feet to a point on said east line; thence North 11°−35′−45″ West along said east line 98.87 feet; thence continuing along said east line along a curve to the right an arc distance of 59.13 feet, said curve having a radius of 308.67 feet and a chord bearing North 6°−06′−29″ West 59.04 feet; thence North 0°−37′−12″ West continuing along said east line 57.03 feet; thence South 89°−22′−48″ West 25.00 feet to the Point of Beginning.

Said Sub-Parcels contain 1.708 acres, more or less.

Portion of Parcels 4, 5 & 6 (to McHDOT)

That part of the West Half of Section 16, Township 43 North, Range 8 East of the Third Principal Meridian, McHenry County, Illinois, more particularly described as follows:

Commencing at the Northwest Corner of said Section 16, thence South 0°−37′−12″ East (bearings assumed for description purposes only) along the west line of said Northwest Quarter 428.51 feet; thence North 89°−22′−48″ East 50.60 feet to a point on the east right of way line of the existing Pyott Road as described in Trustee's Deed dated July 27, 1993, and recorded August 16, 1993, as Document No. 93R048243, said point being on a line parallel with and 25.00 feet, measured perpendicular, west of the east line of the parcel described in Trustee's Deed dated May 12, 2008, and recorded May 16, 2008, as Document No. 2008R0028725, said point to be the Point of Beginning of the Right of Way Parcel to be described;

From the Point of Beginning, thence along a curve to the left an arc distance of 63.92 feet, said curve being concentric with and 25.00 feet, measured radial west of the east line of the parcel described in Trustee's Deed dated May 12, 2008, and recorded May 16, 2008, as Document No. 2008R0028725, said curve having a radius of 333.67 feet and a chord bearing South 6°−06′−29″ East 63.82 feet; thence continuing along said parallel line South 11°−35′−45″ East 94.02 feet to a point on the north line of the parcel described in Trustee's Deed dated July 26, 2007, and recorded August 7, 2007, as Document No. 2007R0053990; thence North 89°−22′−48″ East along said north line 0.11 feet; thence along a curve to the left an arc distance of 353.17 feet, said curve having a radius of 920.00 feet and a chord bearing South 21°−38′−53″ East 351.00 feet; thence South 32°−38′−43″ East 560.59 feet; thence along a curve to the right an arc distance of 922.08 feet, said curve having a radius of 1,020.00 feet and a chord bearing of South 6°−44′−51″ East 891.00 feet; thence South 19°−09′−01″ West 559.99 feet; thence along a curve to the left an arc distance of 685.36 feet, said curve having a radius of 905.00 feet and a chord bearing of South 2°−32′−42″ East 669.10 feet; thence South 24°−14′−25″ East 79.34 feet to a point on the east line of the parcel described in Warranty Deed dated September 12, 2007, and recorded September 18, 2007, as Document No. 2007R0063395; thence South 0°−02′−03″ East along said east line 25.04 feet to the southeast corner of said parcel; thence South 89°−54′−22″ West along the south line of said parcel 55.08 feet to a point on centerline of Pyott Road; thence North 24°−24′−53″ West along said centerline 501.65 feet; thence North 65°−35′−07″ East 33.00 feet to a point on said east right of way line; thence along a non-tangential curve to the right an arc distance of 341.20 feet, said curve having a radius of 1025.00 feet and a chord bearing North 9°−36′−51″ East 339.63 feet; thence North 19°−09′−01″ East 559.99 feet; thence along a curve to the left an arc distance of 813.60 feet, said curve having a radius of 900.00 feet and a chord bearing North 6°−44′−51″ West 786.18 feet; thence North 32°−38′−43″ West 560.59 feet; thence along a curve to the right an arc distance of 115.82 feet to a point on said east right of way line of Pyott Road, said curve having a radius of 1040.00 feet and a chord bearing North 29°−27′−18″ West 115.76 feet; thence North 0°−30′−01″ East along said east right of way line 383.68 feet; thence North 0°−37′−12″ West continuing along said east right of way line 62.07 feet to the Point of Beginning.

Said Right of Way Parcel, identified as Sub-Parcels contains 8.070 acres, more or less.

Issued in Des Plaines, Illinois on July 18, 2011.
Jim Keefer,
Manager, Chicago Airports District Office, FAA, Great Lakes Region.

[FR Doc. 2011-21674 Filed 8-23-11; 8:45 am]

BILLING CODE 4910-13-P